DEPARTMENT OF HEALTH AND HUMAN SERVICES

Food and Drug Administration

[Docket No. FDA-2021-P-0424]

Medical Devices; Exemption From Premarket Notification: Powered Patient Transport, All Other Powered Patient Transport

AGENCY: Food and Drug Administration, HHS.

ACTION: Notice; correction.

SUMMARY: The Food and Drug Administration (FDA) is correcting a notice announcing receipt of a petition requesting exemption from the premarket notification requirements. The document was published with an incorrect docket number. This document corrects that error.

FOR FURTHER INFORMATION CONTACT: Dan Reed, Center for Devices and Radiological Health, Food and Drug Administration, 10903 New Hampshire Ave., Bldg. 66, Rm. 1526, Silver Spring, MD 20993-0002, 240-402-4717.

SUPPLEMENTARY INFORMATION: In the Federal Register of June 15, 2021 (86 FR 31722), in FR Doc. 2021-12505, on page 31722, the following correction is made:

On page 31722, in the second column, in the header of the document, and, also on page 31723, in the first column under “Instructions,” “Docket No. FDA-2021-N-0493” is corrected to read “Docket No. FDA-2021-P-0424”.

Dated: June 25, 2021.
Lauren K. Roth,
Acting Principal Associate Commissioner for Policy.

[FR Doc. 2021-13967 Filed 6-29-21; 8:45 am]

BILLING CODE 4164-01-P